DEPARTMENT OF THE TREASURY

Internal Revenue Service

Open Meeting for the Electronic Tax Administration Advisory Committee (ETAAC)

AGENCY: Internal Revenue Service (IRS), Treasury.

ACTION: Notice of open meeting.

SUMMARY: In 1998 the Internal Revenue Service established the Electronic Tax Administration Advisory Committee (ETAAC).The primary purpose of ETAAC is to provide an organized public forum for discussion of electronic tax administration issues in support of the overriding goal that paperless filing should be the preferred and most convenient method of filing tax and information returns. The ETAAC members convey the public's perceptions of the IRS electronic tax administration activities, offer constructive observations about current or proposed policies, programs, and procedures, and suggest improvements. The ETAAC will share their recommendations and discuss the Annual Report to Congress.

Summarized Agenda

8:30 a.m.—Meet and Greet

9:00 a.m.—Meeting Opens

11:00 a.m.—Meeting Adjourns

The topics for discussion include:

(1) Filing Season Status Update

(2) ETAAC Recommendations

Note: Last-minute changes to these topics are possible and could prevent advance notice.

DATES: There will be a meeting of the ETAAC on Wednesday, June 20, 2012. You must register in advance to be put on a guest list to attend the meeting. This meeting will be open to the public, and will be in a room that accommodates approximately 40 people, including members of ETAAC and IRS officials.

Seats are available to members of the public on a first-come, first-served basis. Escorts will be provided. Attendees are encouraged to arrive 30 minutes before the meeting begins. Members of the public may file written statements sharing ideas for electronic tax administration. Send written statements to etaac@irs.gov.

ADDRESSES: The meeting will be held at the Internal Revenue Service Building, 1111 Constitution Avenue NW., Room 2140, Washington, DC 20024.

FOR FURTHER INFORMATION CONTACT: You must provide your name in advance for the guest list and be able to show your state-issued picture identification on the day of the meeting. Otherwise, you will not be able to attend the meeting as this is a secured building. To receive a copy of the agenda or general information about the ETAAC, please contact Cassandra Daniels on 202-283-2178 or at etaac@irs.gov by Friday, June 15, 2012. Notification of intent should include your name, organization and telephone number. Please spell out all names if you leave a voice message.

SUPPLEMENTARY INFORMATION: ETAAC reports to the Director, Return Preparer Office. The ETAAC's duties are to research, analyze, consider, and make recommendations on a wide range of electronic tax administrative issues and to provide input into the development and implementation of the strategic plan for electronic tax administration. ETAAC members are not paid for their time or services, but consistent with Federal regulations, they are reimbursed for their travel and lodging expenses to attend public meetings and working sessions each year.

Dated: May 18, 2012.
Diane L. Fox,
Director, Relationship Management Branch.

[FR Doc. 2012-12575 Filed 5-24-12; 8:45 am]

BILLING CODE 4830-01-M